DEPARTMENT OF ENERGY

Federal Energy Regulatory Commission

[Project No. 15294-000]

JT Mesa Hydro, LLC; Notice of Preliminary Permit Application Accepted for Filing and Soliciting Comments, Motions To Intervene, and Competing Applications

On December 14, 2022, JT Mesa Hydro, LLC, filed an application for a preliminary permit, pursuant to section 4(f) of the Federal Power Act (FPA), proposing to study the feasibility of the to be located near the City of Raton in Colfax County, New Mexico. The sole purpose of a preliminary permit, if issued, is to grant the permit holder priority to file a license application during the permit term. A preliminary permit does not authorize the permit holder to perform any land-disturbing activities or otherwise enter upon lands or waters owned by others without the owners' express permission.

The proposed project would consist of one of two alternative configurations, the Throttle Alternative and the Closed-Loop Alternative.

The Throttle Alternative would consist of the following facilities: (1) a new 109-acre upper reservoir with a storage capacity of 4,000 acre-feet at a water surface elevation of 7,830 feet above mean sea level (msl); (2) the existing 110-acre Throttle Reservoir with a storage capacity of 4,000 acre-feet at a water surface elevation of 6,783 feet msl; (3) a 500-foot-long, 80-foot-wide, 40-foot-high concrete/metal powerhouse with three 110-foot-long, 75-foot-diameter vertical shafts, each of which would house a 150-megawatt (MW) reversible pump-turbine and motor-generator, for a total generating capacity of 450 MW; (4) three alternative points of interconnection, each with its own transmission route: (a) a new 7-mile-long, 230-kilovolt (kV) transmission line connecting to the existing Walsenburg-Gladstone 230-kV transmission line; (b) a new 41-mile-long, 345-kV transmission line connecting to a substation that is planned in association with a proposed wind project and the Mora Line being developed by Ameren; or (c) a new 39-mile-long, 345-kV transmission line connecting to the Mora Substation north of Springer, which is part of the Mora Line project being developed by Ameren; and (5) appurtenant facilities.

The Closed-Loop Alternative would consist of the following facilities: (1) a new 100-acre upper reservoir with a storage capacity of 3,500 acre-feet at a water surface elevation of 7,830 feet msl; (2) a new 52-acre lower reservoir with a storage capacity of 3,500 acre-feet at a water surface elevation of 6,700 feet msl; (3) a 450-foot-long, 75-foot-wide, 40-foot-high concrete/metal powerhouse with three 100-foot-long, 70-foot-diameter vertical shafts, each of which would house a 150- MW reversible pump-turbine and motor-generator, for a total generating capacity of 450 MW; (4) three alternative points of interconnection, each with its own transmission route: (a) a new 10-mile-long, 230-kV transmission line connecting to the existing Walsenburg-Gladstone 230-kV transmission line; (b) a new 44-mile-long, 345-kV transmission line connecting to a substation that is planned in association with a proposed wind project and the Mora Line being developed by Ameren; or (c) a new 37-mile-long, 345-kV transmission line connecting to the Mora Substation north of Springer, which is part of the Mora Line project being developed by Ameren; and (5) appurtenant facilities.

Applicant Contact: Mr. Matthew Shapiro, JT Mesa Hydro, LLC, 800 W Main St., Ste. 900 Boise, ID 83702; mshapiro@rplusenergies.com; phone: (208) 246-9925.

FERC Contact: Everard Baker; email: everard.baker@ferc.gov; phone: (202) 502-8554.

The Commission's Office of Public Participation (OPP) supports meaningful public engagement and participation in Commission proceedings. OPP can help members of the public, including landowners, environmental justice communities, Tribal members, and others, access publicly available information and navigate Commission processes. For public inquiries and assistance with filings such as interventions, comments, or requests for rehearing, the public is encouraged to contact OPP at (202)502-6595 or OPP@ferc.gov. Comments, motions to intervene, competing applications (without notices of intent), or notices of intent to file competing applications should be submitted within 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Secretary Kimberly Bose, Federal Energy Regulatory Commission, 888 First Street NE, Washington, DC 20426. Submissions sent via any other carrier must be addressed to: Kimberly D. Bose, Secretary, Federal Energy Regulatory Commission, 12225 Wilkins Avenue, Rockville, Maryland 20852. The first page of any filing should include docket number P-15294-000.

More information about this project, including a copy of the application, can be viewed on the Commission's website (http://www.ferc.gov) using the “eLibrary” link. Enter the docket number (P-15294) in the docket number field to access the document. For assistance, please contact FERC Online Support.

Dated: November 7, 2023.
Kimberly D. Bose,
Secretary.

[FR Doc. 2023-25042 Filed 11-13-23; 8:45 am]

BILLING CODE 6717-01-P